DEPARTMENT OF COMMERCE

Foreign-Trade Zones Board

[Docket 35-2011]

Proposed Foreign-Trade Zone—Eloy, Arizona; Amendment of Application

A request has been submitted to the Foreign-Trade Zones Board (the Board) by Tucson Regional Economic Opportunities (TREO), grantee of Foreign-Trade Zone 174, located in Tucson, Arizona, at the request of the City of Eloy, to amend the City's pending application requesting authority to establish a new general-purpose zone in Eloy, Arizona.

TREO is requesting authority to include the four sites originally proposed for FTZ designation as part of a new zone in Eloy, Arizona (FTZ Board Docket B-35-2011, 76 FR 30907, 05/27/2011 and 77 FR 62216-62217, 10/12/2012) as additional magnet sites of FTZ 174, adjacent to the Tucson, Arizona, U.S. Customs and Border Protection port of entry.

The proposed sites are as follows: Site 1 (81 acres)—two parcels located at the intersection of Houser Road and Eleven Mile Corner Road, Eloy; Site 2 (277 acres)—Sunshine Industrial Park, located at the intersection of Interstate 10 and Sunshine Boulevard, Eloy; Site 3 (279 acres)—Toltec Business Park, located at the intersection of Houser Road and Toltec Road, Eloy; and, Site 4 (293 acres)—Red Rock Industrial Park, located along Interstate 10 and the Union Pacific Railroad line opposite Sasco Road, Red Rock. The sites are owned by the City of Eloy (Site 1), Walton International Group (USA), Inc. and Walton Arizona, LLC (Site 2), Walton International Group (USA), Inc. (Site 3) and Walton International Group (USA), Inc. and Walton Arizona, LLC (Site 4). If approved, the sites being proposed would be assigned new site numbers under FTZ 174.

Public comment is invited from interested parties. Submissions shall be addressed to the Board's Executive Secretary at: Foreign-Trade Zones Board, U.S. Department of Commerce, Room 21013, 1401 Constitution Ave. NW., Washington, DC 20230.

The closing period for their receipt is July 2, 2014. Rebuttal comments in response to material submitted during the foregoing period may be submitted during the subsequent 15-day period (to July 17, 2014).

A copy of the application amendment will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Christopher Kemp at Christopher.Kemp@trade.gov or (202) 482-0862.

Dated: May 21, 2014.
Andrew McGilvray,
Executive Secretary.

[FR Doc. 2014-12704 Filed 5-30-14; 8:45 am]

BILLING CODE 3510-DS-P